DEPARTMENT OF COMMERCE

National Oceanic and Atmospheric Administration

[I.D. 111301B]

Mid-Atlantic Fishery Management Council; Meeting

AGENCY: National Marine Fisheries Service (NMFS), National Oceanic and Atmospheric Administration (NOAA), Commerce.

ACTION: Notice of public meeting.

SUMMARY: The Mid-Atlantic Fishery Management Council and the Atlantic States Marine Fisheries Commission’s Summer Flounder, Scup, and Black Sea Bass Industry Advisors will hold a public meeting.

DATES: The meeting will be held Wednesday, December 5, 2001, from 10 a.m. until 5 p.m.

ADDRESSES: This meeting will be held at the Holiday Inn BWI, 890 Elkridge Landing Road, Linthicum, MD 21090, telephone 410-859-8400.

Council address: Mid-Atlantic Fishery Management Council, Room 2115, 300 S. New Street, Dover, DE 19904. Atlantic States Marine Fisheries Commission, 1444 Eye Street, NW, 6th Floor, Washington, DC 20005.

FOR FURTHER INFORMATION CONTACT: Daniel T. Furlong, Executive Director, Mid-Atlantic Fishery Management Council; telephone 302-674-2331, ext. 19. Jack Dunnigan, Executive Director, Atlantic States Marine Fisheries Commission, 202-289-6400, ext. 304.

SUPPLEMENTARY INFORMATION: The purpose of this meeting is to discuss the 2002 recreational management measures for summer flounder, scup, and black sea bass.

Although non-emergency issues not contained in this agenda may come before the Council for discussion, these issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

This meeting is physically accessible to people with disabilities. Requests for sign language interpretation or other auxiliary aids should be directed to Joanna Davis at the Mid-Atlantic Council Office at least 5 days prior to the meeting date.

Dated: November 15, 2001.
Richard W. Surdi,
Acting Director, Office of Sustainable Fisheries, National Marine Fisheries Service.

[FR Doc. 01-29161 Filed 11-20-01; 8:45 am]

BILLING CODE 3510-22-S